DEPARTMENT OF COMMERCE

United States Patent and Trademark Office

Submission for OMB Review; Comment Request

The United States Patent and Trademark Office (USPTO) will submit to the Office of Management and Budget (OMB) for clearance the following proposal for collection of information under the provisions of the Paperwork Reduction Act (44 U.S.C. Chapter 35).

Agency: United States Patent and Trademark Office (USPTO).

Title: Board of Patent Appeals and Interferences (BPAI) Actions.

Form Number(s): No forms.

Agency Approval Number: 0651-00xx.

Type of Request: New information collection.

Burden: 773,895 hours annually. In the future, once this proposed collection and 0651-0031 are approved by the OMB, the USPTO expects to move the notices of appeal and requests for oral hearing before the BPAI into this collection. The USPTO estimates that this will add a minimum of 5,719 hours per year to this collection.

Number of Respondents: 31,828 responses per year. The USPTO estimates that once the notices of appeal and requests for oral hearing before the BPAI are moved into this collection, a minimum of 28,595 responses will be added to this collection.

Avg. Hours Per Response: The USPTO estimates that it takes the public approximately 5 to 30 hours to complete this information, depending on the brief, petition, or request. This includes the time to gather the necessary information, prepare the briefs, petitions, and requests, and submit them to the USPTO. The USPTO estimates that it takes the public approximately 12 minutes (0.20 hours) to complete the notices of appeal and requests for oral hearing before the BPAI. Needs and Uses: This collection of information is required by 35 U.S.C. 134, 135, 306, and 315 and is implemented through the appeal rules found in Part 41. The Board of Patent Appeals and Interferences was established under 35 U.S.C. 6(b). This collection permits applicants and registrants to prepare appeal and reply briefs which set forth the claims, issues, and arguments on appeal to the BPAI and permits the filing of petitions requesting extensions of time to respond to the agency, petitions requesting an increase in the page limit of a brief, and requests for rehearing before the BPAI. The BPAI uses the information to aid in rendering a decision on the claims, issues, and arguments outlined in the appeal and reply briefs and to determine whether the petitions for extensions of time, the petitions to increase the page limit of a brief, and requests for rehearings before the BPAI should be granted. There are no forms associated with the items in this collection, but they are governed by the rules in Part 41. The Board publishes its opinions and decisions for publicly available files on the USPTO Web site.

Affected Public: Primarily businesses or other for-profit organizations.

Frequency: On occasion.

Respondent's Obligation: Required to obtain or retain benefits.

OMB Desk Officer: Nicholas A. Fraser, e-mail: Nicholas_A._Fraser@omb.eop.gov.

Copies of the above information collection proposal can be obtained by any of the following:

• E-mail: Susan.Fawcett@uspto.gov. Include “0651-00xx Board of Patent Appeals and Interferences (BPAI) Actions copy request” in the subject line of the message.

• Fax: 571-273-0112, marked to the attention of Susan K. Fawcett.

• Mail: Susan K. Fawcett, Records Officer, Office of the Chief Information Officer, Customer Information Services Group, Public Information Services Division, U.S. Patent and Trademark Office, P.O. Box 1450, Alexandria, VA 22313-1450.

Written comments and recommendations for the proposed information collection should be submitted on or before November 7, 2008 to Nicholas A. Fraser, OMB Desk Officer, via e-mail at Nicholas_A._Fraser@omb.eop.gov or by fax (202) 395-5167, marked to the attention of Nicholas A. Fraser.

Dated: October 2, 2008.
Susan K. Fawcett,
Records Officer, USPTO, Office of the Chief Information Officer, Customer Information Services Group,

[FR Doc. E8-23810 Filed 10-7-08; 8:45 am]

BILLING CODE 3510-16-P